DEPARTMENT OF HEALTH AND HUMAN SERVICES

National Institutes of Health

National Cancer Institute; Amended Notice of Meeting

Notice is hereby given of a change in the meeting of the National Cancer Institute Clinical Trials and Translation Research Advisory Committee, March 8, 2017, 8:00 a.m. to March 8, 2017, 3:00 p.m., National Institutes of Health, Building 31, C-Wing, 6th Floor, Rooms 9 and 10, 31 Center Drive, Bethesda, MD 20892 which was published in the Federal Register on January 11, 2017, 81 FR 3342.

This meeting notice is amended to change the meeting format and start and end times. The meeting will now be held virtually from 11:00 a.m. to 1:30 p.m. due to a change in the agenda which reduced the time required for deliberation and discussion. The meeting will still be held at the National Institutes of Health, Building 31, C-Wing, 6th Floor, Rooms 9 and 10, 31 Center Drive, Bethesda, MD 20892 and can also be accessed via NIH Videocast at https://videocast.nih.gov. This meeting is open to the public.

Dated: February 16, 2017.
Melanie J. Gray-Pantoja,
Program Analyst, Office of Federal Advisory Committee Policy.

[FR Doc. 2017-03448 Filed 2-21-17; 8:45 am]

BILLING CODE 4140-01-P